DEPARTMENT OF HEALTH AND HUMAN SERVICES

National Institutes of Health

Prospective Grant of Start-Up Exclusive License: Differential Expression of Molecules Associated With Acute Stroke

AGENCY: National Institutes of Health, HHS.

ACTION: Notice.

SUMMARY: This is notice, in accordance with 35 U.S.C. 209 and 37 CFR part 404, that the National Institutes of Health (NIH), Department of Health and Human Services, is contemplating the grant of a start-up exclusive license to VuEssence, which is located in Florida, to practice the inventions embodied in the following patents:

1. AU Patent 2005248410, issued August 5, 2010 (E-306-2003/0-AU-03)

2. US Patent 7,749,700, issued July 6, 2010 (E-306-2003/1-US-01)

The patent rights in these inventions have been assigned to the United States of America. The prospective start-up exclusive license territory may be worldwide and the field of use may be limited to in vitro class III diagnostic device for the detection and assessment of ischemic stroke in humans.

DATES: Only written comments and/or applications for a license which are received by the NIH Office of Technology Transfer on or before October 19, 2015 will be considered.

ADDRESSES: Requests for copies of the patent application, inquiries, comments, and other materials relating to the contemplated start-up exclusive evaluation option license should be directed to: Susan Ano, Ph.D., NINDS Technology Transfer and Development Branch, 31 Center Drive, Suite 8A52, MS2540, Bethesda, MD 20892; Telephone: (301) 435-5515; Email: anos@mail.nih.gov.

SUPPLEMENTARY INFORMATION: The present technology claims methods of determining whether a subject had an ischemic stroke by detecting expression of twenty biomarkers in the blood, comparing expression levels to an individual who has not had a stroke, and determining whether there was at least a four-fold increase in the biomarker expression levels. Each of the biomarkers is detectable by a specified set of sequences.

The patent also claims a method of administering an appropriate treatment regimen for a subject who had an ischemic stroke.

The prospective start-up exclusive license may be granted unless within fifteen (15) days from the date of this published notice, the NIH receives written evidence and argument that establishes that the grant of the license would not be consistent with the requirements of 35 U.S.C. 209 and 37 CFR part 404.

Complete applications for a license in the field of use filed in response to this notice will be treated as objections to the grant of the contemplated start-up exclusive license. Comments and objections submitted to this notice will not be made available for public inspection and, to the extent permitted by law, will not be released under the Freedom of Information Act, 5 U.S.C. 552.

Dated: September 28, 2015.
Richard U. Rodriguez,
Acting Director, Office of Technology Transfer, National Institutes of Health.

[FR Doc. 2015-24988 Filed 10-1-15; 8:45 am]

BILLING CODE 4140-01-P